DEPARTMENT OF TRANSPORTATION

Federal Aviation Administration

14 CFR Part 39

[Docket No. FAA-2019-0250; Product Identifier 2018-NM-157-AD; Amendment 39-19734; AD 2019-18-07]

RIN 2120-AA64

Airworthiness Directives; Airbus SAS Airplanes

AGENCY: Federal Aviation Administration (FAA), Department of Transportation (DOT).

ACTION: Final rule.

SUMMARY: The FAA is superseding Airworthiness Directive (AD) 2015-17-14, which applied to all Airbus SAS Model A319 series airplanes; Model A320-211, -212, -214, -231, -232, and -233 airplanes, and Model A321-111, -112, -131, -211, -212, -213, -231, and -232 airplanes. AD 2015-17-14 required repetitive rototest inspections of the open tack holes and rivet holes at the cargo floor support fittings of the fuselage, including doing all applicable related investigative actions, and repair if necessary. This AD continues to require the actions of AD 2015-17-14, adds actions for certain airplanes, and reduces the compliance times for certain airplanes, as specified in an European Aviation Safety Agency (EASA) AD, which is incorporated by reference. This AD also reduces the applicability. This AD was prompted by further analysis and widespread fatigue damage (WFD) evaluations which identified the need to reduce the initial compliance times and repetitive intervals for the inspections for certain airplanes, and to add work for certain airplanes. The FAA is issuing this AD to address the unsafe condition on these products.

DATES: This AD is effective October 31, 2019.

The Director of the Federal Register approved the incorporation by reference of a certain publication listed in this AD as of October 31, 2019.

ADDRESSES: For the material incorporated by reference (IBR) in this AD, contact the EASA, at Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov by searching for and locating Docket No. FAA-2019-0250.

Examining the AD Docket

You may examine the AD docket on the internet at http://www.regulations.gov by searching for and locating Docket No. FAA-2019-0250; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

The European Aviation Safety Agency (EASA), which is the Technical Agent for the Member States of the European Union, has issued EASA AD 2018-0233R1, dated November 28, 2018 (“EASA AD 2018-0233R1”) (referred to after this as the Mandatory Continuing Airworthiness Information, or “the MCAI”), to correct an unsafe condition for certain Airbus SAS Model A319 series airplanes; Model A320-211, -212, -214, -216, -231, -232, and -233 airplanes; and Model A321-111, -112, -131, -211, -212, -213, -231, and -232 airplanes. You may examine the MCAI in the AD docket on the internet at http://www.regulations.gov by searching for and locating Docket No. FAA-2019-0250.

The FAA issued a notice of proposed rulemaking (NPRM) to amend 14 CFR part 39 to supersede AD 2015-17-14, Amendment 39-18247 (80 FR 52182, August 28, 2015) (“AD 2015-17-14”). AD 2015-17-14 applied to all Airbus SAS Model A319 series airplanes; Model A320-211, -212, -214, -231, -232, and -233 airplanes, and Model A321-111, -112, -131, -211, -212, -213, -231, and -232 airplanes. The NPRM published in the Federal Register on April 24, 2019 (84 FR 17102). The NPRM was prompted by further analysis and WFD evaluations which identified the need to reduce the initial compliance times and repetitive intervals for the inspections for certain airplanes, and to add work for certain airplanes. The NPRM proposed to continue to require the actions of AD 2015-17-14. The NPRM also proposed to add actions for certain airplanes, and reduce the compliance times for certain airplanes. The FAA is issuing this AD to address cracking in the open tack holes and rivet holes at the cargo floor support fittings of the fuselage, which could affect the structural integrity of the airplane. See the MCAI for additional background information.

Comments

The FAA gave the public the opportunity to participate in developing this final rule. The following presents the comments received on the NPRM and the FAA's response to each comment.

Request To Change Applicability

Delta TechOps (DAL) asked that the applicability identified in paragraph (c) of the proposed AD be changed by adding the following language: “Serial number exceptions for Airbus production [modification] MOD status, as defined within the Applicability paragraph of EASA AD 2018-0233R1, are likewise acceptable for FAA AD applicability definition.” DAL stated that paragraph (c) applies to certain A320 family aircraft identified in the EASA AD, and noted that paragraph 2 of the EASA AD provides additional applicability details, namely, excluding serial numbers from the applicability based on the Airbus MOD status.

The FAA acknowledges the commenter's request and offers the following clarification: The intent of the applicability identified in paragraph (c) of this AD is to match the applicability in EASA AD 2018-0233R1, for airplanes with an FAA-approved type certificate, including exceptions based on modifications. Therefore, no change to this AD is necessary in this regard.

Request To Change Method for Obtaining Corrective Actions

DAL asked that the method for obtaining corrective actions, as required by paragraph (g) of the proposed AD, be changed. DAL stated that those requirements entail complying with all required actions and compliance times specified in, and in accordance with, EASA AD 2018-0233R1. DAL added that, specifically, this means the method for obtaining all corrective actions is to contact Airbus. DAL asked that the method for obtaining corrective actions be changed as follows:

If any crack is found during any inspection required by this AD: Before further flight, repair using a method approved by the Manager, International Branch, ANM-116, Transport Airplane Directorate, FAA; or the European Aviation Safety Agency (EASA); or Airbus's EASA Design Organization Approval (DOA). If approved by the DOA, the approval must include the DOA-authorized signature.

DAL noted that, as written, the proposed AD will limit authorization for corrective action solely to Airbus (EASA DOA), which restricts operator flexibility to obtain corrective action directly from the FAA or from the EASA.

The FAA disagrees with the commenter's request because the method proposed by the commenter is already provided in paragraph (i)(2) of this AD (as restated from the proposed AD), which in turn applies to paragraph (g) of this AD. Therefore, no change to this AD is necessary in this regard.

Request To Include Certain Deviations

DAL asked that a deviation paragraph be added to the exceptions in paragraph (h) of the proposed AD as follows: “If accomplishing inspections according to a non-RC [required for compliance] revision of manufacturer Service Information, deviations from paragraphs other than paragraph 3.C. `Procedures' do not require an [alternative method of compliance] AMOC.” DAL stated that the inspection can be done using any revision of Airbus Service Bulletin A320-53-1257, and the original issue was not written in RC format. DAL added that operators have by now performed the initial inspection using the original issue of that service information. DAL noted that these inspections comply with the final rule because credit is allowed in EASA AD 2018-0233R1. DAL stated that it is possible that operators deviated from procedures outside of paragraph 3.C. when accomplishing a non-RC formatted service information revision, or may never have incorporated Revision 01 or Revision 02.

The FAA disagrees with the commenter's request. EASA AD 2018-0233R1 requires inspecting in accordance with Revision 02 of Airbus Service Bulletin A320-53-1257. If the inspection is done using the original issue or Revision 01 of the service information, credit is given for compliance in EASA AD 2018-0233R1. Any deviation from the service information must comply with the procedures found in 14 CFR 39.19. Therefore, no change to this AD is necessary in this regard.

Request To Remove Corrosion Prevention Requirement

DAL stated that the application of CML 12ADB1 Corrosion Preventative Compound should not be considered an RC step. DAL noted that operators are responsible for maintaining their own corrosion prevention programs, and application of corrosion inhibiting compounds (CICs) during embodiment of ADs should not be included with the RC steps.

The FAA does not agree to remove the requirement to apply CIC. The application of CIC is necessary to address the unsafe condition, and to ensure that the correct CIC is used, this AD requires use of the CIC referenced in the service information that is identified in the MCAI for the applicable product. However, under the provisions of paragraph (i)(1) of this AD, the FAA will consider requests for approval of another corrosion prevention compound if sufficient data are submitted to substantiate that it would provide an acceptable level of safety. The FAA has not changed this AD regarding this issue.

Request To Clarify Requirements

United Airlines (UAL) asked if the intent of paragraph (g) of the proposed AD is that operators are required to comply with EASA AD 2018-0233R1 in its entirety, except as noted in paragraph (h) of the proposed AD, or just compliance with the section in EASA AD 2018-0233R1 titled “Required Action(s) and Compliance Time(s).” UAL stated that the proposed AD should provide clarification so operators know the specific parts of the EASA AD necessary for compliance.

The FAA agrees to clarify the requirements in paragraph (g) of this AD. This AD requires compliance with EASA AD 2018-0233R1 in its entirety, through that incorporation, except for any differences identified as exceptions in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. The FAA has not changed this AD in this regard.

Request To Include Terminating Action and Credit for Previous Actions

JetBlue asked that the modification required by paragraph (8) of EASA AD 2018-0233R1 be added to the proposed AD as terminating action. The commenter also asked that credit be provided for actions done in accordance with FAA AD 2015-17-14 through related AMOCs.

The FAA acknowledges the commenter's request. However, the terminating action found in paragraph (8) of EASA AD 2018-0233R1 is already provided for in paragraph (g) of this AD, which requires complying with all required actions and compliance times specified in, and in accordance with, EASA AD 2018-0233R1. In addition, paragraph (i)(1)(ii) of this AD provides credit for AMOCs approved previously for AD 2015-17-14. Unless otherwise noted in this AD, all provisions of EASA AD 2018-0233R1 apply to the corresponding provisions of this AD. Therefore, the FAA has made no changes to this AD in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2018-0233R1 describes procedures for repetitive inspections of the open tack holes and rivet holes of the fuselage frames below the cargo floor support fittings for cracking. This material is reasonably available because the interested parties have access to it through their normal course of business or by the means identified in the ADDRESSES section, and it is publicly available through the EASA website.

Costs of Compliance

The FAA estimates that this AD affects 1,009 airplanes of U.S. registry. The FAA estimates the following costs to comply with this AD:

Estimated Costs for Required Actions
Action | Labor cost | Parts cost | Cost per product | Cost on U.S. operators
Retained actions from AD 2015-17-14 | Up to 471 work-hours × $85 per hour = Up to $40,035 | $0 | Up to $40,035 | Up to $40,395,315.
New actions | Up to 474 work-hours × 85 per hour = Up to $40,290 | 13,000 | Up to $53,290 | Up to $53,769,610.

The FAA has received no definitive data that enables the agency to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-17-14, Amendment 39-18247 (80 FR 52182, August 28, 2015), and adding the following new AD:

2019-18-07 Airbus SAS: Amendment 39-19734; Docket No. FAA-2019-0250; Product Identifier 2018-NM-157-AD.

(a) Effective Date

This AD is effective October 31, 2019.

(b) Affected ADs

This AD replaces AD 2015-17-14, Amendment 39-18247 (80 FR 52182, August 28, 2015) (“AD 2015-17-14”).

(c) Applicability

This AD applies to Airbus SAS Model A319-111, -112, -113, -114, -115, -131, -132, and -133 airplanes; Model A320-211, -212, -214, -216, -231, -232, and -233 airplanes; and Model A321-111, -112, -131, -211, -212, -213, -231, and -232 airplanes; certificated in any category, as identified in European Aviation Safety Agency (EASA) AD 2018-0233R1, dated November 28, 2018 (“EASA AD 2018-0233R1”).

(d) Subject

Air Transport Association (ATA) of America Code 53, Fuselage.

(e) Reason

This AD was prompted by further analysis and widespread fatigue damage (WFD) evaluations and full-scale fatigue testing that indicated that several broken frames in certain areas of the cargo compartment were found, especially on the cargo floor support fittings and open tack holes on the left-hand side, which identified the need to reduce the initial compliance times and repetitive intervals for the inspections for certain airplanes, and to add work for certain airplanes. The FAA is issuing this AD to address cracking in the open tack holes and rivet holes at the cargo floor support fittings of the fuselage, which could affect the structural integrity of the airplane.

(f) Compliance

Comply with this AD within the compliance times specified, unless already done.

(g) Requirements

Except as specified in paragraph (h) of this AD: Comply with all required actions and compliance times specified in, and in accordance with, EASA AD 2018-0233R1.

(h) Exceptions to EASA AD 2018-0233R1

(1) For purposes of determining compliance with the requirements of this AD: Where EASA AD 2018-0233R1 refers to “the effective date of the original issue of this AD,” this AD requires using the effective date of this AD, and where EASA AD 2018-0233R1 refers to “the effective date of EASA AD 2013-0310,” this AD requires using October 2, 2015 (the effective date of AD 2015-17-14).

(2) The “Remarks” section of EASA AD 2018-0233R1 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2015-17-14 are approved as AMOCs for the corresponding provisions of EASA AD 2018-0233R1 that are required by paragraph (g) of this AD.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0233R1 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Sanjay Ralhan, Aerospace Engineer, International Section, Transport Standards Branch, FAA, 2200 South 216th St., Des Moines, WA 98198; telephone and fax 206-231-3223.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0233R1, dated November 28, 2018.

(ii) [Reserved]

(3) For EASA AD 2018-0233R1, contact the EASA, Konrad-Adenauer-Ufer 3, 50668 Cologne, Germany; telephone +49 221 89990 6017; email ADs@easa.europa.eu; internet www.easa.europa.eu. You may find this EASA AD on the EASA website at https://ad.easa.europa.eu.

(4) You may view this EASA AD at the FAA, Transport Standards Branch, 2200 South 216th St., Des Moines, WA. For information on the availability of this material at the FAA, call 206-231-3195. EASA AD 2018-0233R1 may be found in the AD docket on the internet at http://www.regulations.gov by searching for and locating Docket No. FAA-2019-0250.

(5) You may view this material that is incorporated by reference at the National Archives and Records Administration (NARA). For information on the availability of this material at NARA, email fedreg.legal@nara.gov, or go to: http://www.archives.gov/federal-register/cfr/ibr-locations.html.

Issued in Des Moines, Washington, on September 16, 2019.
Michael Kaszycki,
Acting Director, System Oversight Division, Aircraft Certification Service.

[FR Doc. 2019-20893 Filed 9-25-19; 8:45 am]

BILLING CODE 4910-13-P